DEPARTMENT OF THE INTERIOR

Bureau of Land Management

[NM-910-03-1020-PG]

Notice of Public Meeting, New Mexico Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) New Mexico Resource Advisory Council (RAC), will meet as indicated below.

DATES: The meeting will be held on September 11-12, 2003, at the Farmington Marriott Courtyard, San Juan/La Plata Rooms, 560 Scott Avenue, Farmington, NM, beginning at 8 a.m. both days. The meeting will adjourn at approximately 5:00 p.m. on Thursday and 1 p.m. on Friday. The two established RAC subcommittees may have a late afternoon or an evening meeting on Thursday, September 11.

An optional Field Trip is planned for Wednesday, September 10. The public comment period is scheduled for Wednesday, September 10, from 6-8 p.m. in the Animas/Florida Rooms.

SUPPLEMENTARY INFORMATION: The 15 member Council advises the Secretary of the Interior, through the Bureau of Land Management, on a variety of planning and management issues associated with public land management in New Mexico. At this meeting, topics for discussion include:

Working Landscapes Initiative.

Oil and gas compliance.

Geology ACEC and the development of the ACEC.

Recreation and visitor services priorities.

All meetings are open to the public. The public may present written comments to the Council. Each formal Council meeting will also have time allocated for hearing public comments. Depending on the number of persons wishing to comment and time available, the time for individual oral comments may be limited. New Mexico RAC meetings are coordinated with the representative of the Governor of the State of New Mexico.

FOR FURTHER INFORMATION CONTACT: Theresa Herrera, New Mexico State Office, Office of Internal Affairs, Bureau of Land Management, P.O. Box 27115, Santa Fe, New Mexico 87502-0115, (505) 438-7517.

Dated: July 29, 2003.
Richard A. Whitley,
Associate State Director.

[FR Doc. 03-20092 Filed 8-6-03; 8:45 am]

BILLING CODE 4310-FB-M